DEPARTMENT OF JUSTICE

Antitrust Division

Notice Pursuant to the National Cooperative Research and Production Act of 1993—National Armaments Consortium

Notice is hereby given that, on October 7, 2022, pursuant to section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, C6I Services Corporation, Chesterfield, NJ; Camgian Microsystems Corporation, Starkville, MS; COLSA Corp, Huntsville, AL; Decryptor, Inc., Richardson, TX; Diversified Technologies, Inc., Bedford, MA; Equinox Innovative Systems, Inc., Columbia, MD; Fairlead Integrated LLC, Portsmouth, VA; Igov Technologies, Inc., Reston, VA; Invocon, Inc., Conroe, TX; Marvin Test Solutions, Inc., Irvine, CA; Summit Technology Research Corporation, Huntsville, AL; Systems Planning and Analysis, Inc., Alexandria, VA; and The M&P Labs, Inc (dba Lucideon M+P), Schenectady, NY, have been added as parties to this venture.

Also, MAK Technologies, Inc., Cambridge, MA; and Southwest Dynamic Systems LLC, Albuquerque, NM, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to section 6(b) of the Act on June 30, 2000 (65 FR 40693).

The last notification was filed with the Department on August 8, 2022. A notice was published in the Federal Register pursuant to section 6(b) of the Act on September 13, 2022 (87 FR 56088).

Suzanne Morris,
Deputy Director, Civil Enforcement Operations, Antitrust Division.

[FR Doc. 2022-25448 Filed 11-22-22; 8:45 am]

BILLING CODE P